DEPARTMENT OF AGRICULTURE

Animal and Plant Health Inspection Service

[Docket No. APHIS-2012-0006]

Notice of Establishment of a Commodity Import Approval Process Web Site

AGENCY: Animal and Plant Health Inspection Service, USDA.

ACTION: Notice.

SUMMARY: We are announcing the creation of a new Plant Protection and Quarantine Web site that will provide stakeholders with information about the commodity import approval process for plants and plant products and give them the opportunity to consult with us on risk assessments as they are being drafted. We are doing this in response to stakeholder requests for more information about the commodity import approval process and the opportunity to comment on draft risk assessments. This Web site will make the commodity import approval process more visible to stakeholders and allow them to comment on draft risk assessments.

FOR FURTHER INFORMATION CONTACT: Ms. Charisse Cleare, Project Coordinator, Regulations, Permits, and Manuals, PPQ, APHIS, 4700 River Road Unit 156, Riverdale, MD 20737-1231; (301) 851-2037.

SUPPLEMENTARY INFORMATION: The regulations contained in 7 CFR part 319 (referred to below as the regulations) prohibit or restrict the importation of plants, plant parts, and plant products into the United States in accordance with the authority conferred on the Secretary of Agriculture by the Plant Protection Act (PPA, 7 U.S.C. 7701 et seq.). The Animal and Plant Health Inspection Service (APHIS) is the U.S. Department of Agriculture agency responsible for enforcing the regulations and considering requests to amend the regulations to allow the importation of plants, plant parts, or plant products that are not currently allowed importation under the regulations.

Persons who request changes to the import regulations and who wish to import plants, plant parts, or plant products that are not allowed importation into the United States, must file a request with APHIS for consideration to determine whether the new commodity may be safely imported. The regulations in § 319.5 set forth the procedures for submitting requests and supporting information, which includes information about the requestor, information about the commodity to be imported, shipping information, a description of pests and diseases associated with the commodity, risk mitigation or management strategies, and additional information as determined by APHIS to complete a pest risk analysis in accordance with international standards. Once the risk analysis has been completed and APHIS makes the determination that the risks associated with the commodity in question can be adequately mitigated, the risk analysis is made available for public comment either through a notice published in the Federal Register or as a supporting document with a proposed rule published in the Federal Register.

Our stakeholders have expressed an interest in knowing more about the commodity import approval process and participating at an earlier stage in the development of risk assessments as they are being drafted. To this end, APHIS' Plant Protection and Quarantine (PPQ) program has created a Web site ¹ that will provide stakeholders with information about the commodity import approval process for plants and plant products, including fruits, vegetables, plants for planting, cut flowers, wood, and wood products. The Web site will describe each major step in the commodity import approval process, including a general description of the following: Determination of the import status of a commodity, submission of a request by a national plant protection organization, initiation and drafting of risk assessment and risk management documents, completion of an environmental review, and publication and implementation of new requirements, as applicable.

¹ http://www.aphis.usda.gov/import_export/plants/plant_imports/process/.

The Web site will also provide a means for stakeholders to consult with PPQ on drafts of risk assessments. To do this, stakeholders will first need to subscribe to the APHIS stakeholder registry ² and submit an email address, which will be used to send an alert whenever a draft risk assessment becomes available for comment. We will post the draft risk assessment on the Web site for 30 days to give stakeholders an opportunity to review the draft and provide comments via email. We will consider the comments and make changes if warranted. While we will not provide individual responses to stakeholders who have submitted comments on the draft risk assessment, we will continue to respond to comments submitted after availability of the completed risk assessment is announced in the Federal Register.

² https://public.govdelivery.com/accounts/USDAAPHIS/subscriber/new.

Questions concerning PPQ's Web site for the commodity import approval process for plants and plant products may be directed to the person listed under FOR FURTHER INFORMATION CONTACT.

Done in Washington, DC, this 20th day of June 2012.
Kevin Shea,
Acting Administrator, Animal and Plant Health Inspection Service.

[FR Doc. 2012-15562 Filed 6-25-12; 8:45 am]

BILLING CODE 3410-34-P